FEDERAL COMMUNICATIONS COMMISSION

Notice of Public Information Collection(s) Being Reviewed by the Federal Communications Commission, Comments Requested

January 13, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 24, 2003. If you anticipate that you will be submitting comments, but find it difficult to do so within the period of time allowed by this notice, you should advise the contact listed below as soon as possible.

ADDRESSES: Direct all comments to Judith Boley Herman, Federal Communications Commission, Room 1-C804 or Room 1-A804, 445 12th Street, SW., Washington, DC 20554 or via the Internet to jboley@fcc.gov.

FOR FURTHER INFORMATION CONTACT: For additional information or copies of the information collection(s), contact Judith Boley Herman at 202-418-0214 or via the Internet at jboley@fcc.gov.

SUPPLEMENTARY INFORMATION:

OMB Control No.: 3060-0066.

Title: Application for Renewal of Instructional Television Fixed Station and/or Response Station(s) and Low Power Relay Station(s) License.

Form No.: FCC Form 330-R.

Type of Review: Revision of a currently approved collection.

Respondents: Not-for-profit institutions, and state, local or tribal government.

Number of Respondents: 75.

Estimated Time Per Response: 3 hours.

Frequency of Response: Reporting requirement every 10 years (upon expiration).

Total Annual Burden: 225 hours.

Total Annual Cost: N/A.

Needs and Uses: FCC Form 330-R is used by licensees of Instructional Television Fixed (ITFS), Response, and Low Power Relay Stations to file for renewal of their licenses. The data are used by FCC staff to ensure that ITFS licensees continue to meet basic Commission policies and rules, as well as statutory requirements to remain a licensee. The form is being revised to include the FCC Registration Number (FRN) and to clarify existing instructions for the general public.

OMB Control No.: 3060-0093.

Title: Applications for Renewal of Radio Station License in Specified Services.

Form No.: FCC Form 405.

Type of Review: Revision of a currently approved collection.

Respondents: Business or other for-profit.

Number of Respondents: 2,500.

Estimated Time Per Response: 2.25 hours.

Frequency of Response: On occasion reporting requirement.

Total Annual Burden: 5,625 hours.

Total Annual Cost: $338,000.

Needs and Uses: The FCC Form 405 is used by common carriers and Multipoint Distribution Service (MDS) non-common carriers to apply for renewal of radio station licenses. Section 307(c) of the Communications Act limits the term of common carrier radio licenses to ten years and requires that written applications be submitted for renewal. It is proposed that the FCC Form 405 be revised to add the FCC Registration Number (FRN) in order to have a unique identifier for each applicant and to facilitate the applicants' electronic payments of licensing fees.

OMB Control No.: 3060-0589.

Title: FCC Remittance Advice and Continuation Sheet.

Form No.: FCC Form 159 and 159-C.

Type of Review: Revision of a currently approved collection.

Respondents: Individuals or households, business or other for-profit, not-for-profit institutions, and state, local or tribal government.

Number of Respondents: 635,738.

Estimated Time Per Response: .50 hours.

Frequency of Response: On occasion reporting requirement and third party disclosure requirement.

Total Annual Burden: 317,869 hours.

Total Annual Cost: N/A.

Needs and Uses: The FCC Forms 159 and 159-C are required for payment of regulatory fees, and for use when paying for multiple filings with a single payment instrument, or when paying by credit card. The forms require specific information to track payment history, and to facilitate the efficient and expeditious processing of collections by a lockbox bank. The forms are being revised to eliminate the Taxpayer Information Number (TIN), add Discover and American Express to the credit cards allowable, and eliminate redundant data fields asking for information already available in the CORES system.

OMB Control No.: 3060-0809

Title: Communications Assistance for Law Enforcement Act (CALEA).

Form No.: N/A.

Type of Review: Revision of a currently approved collection.

Respondents: Business or other for-profit.

Number of Respondents: 5,000.

Estimated Time Per Response: 7 hours.

Frequency of Response: On occasion and one time reporting requirements and recordkeeping requirement.

Total Annual Burden: 51,000 hours.

Total Annual Cost: N/A.

Needs and Uses: The information filed with the Commission will be used to verify telecommunications carriers' conformance with the CALEA requirements, and the information made available to law enforcement officials will be used to determine the accountability and accuracy of telecommunications carriers' compliance with lawful electronic surveillance orders.

OMB Control No.: 3060-0901.

Title: Reports of Common Carriers and Affiliates.

Form No.: N/A.

Type of Review: Extension of a currently approved collection.

Respondents: Business or other for-profit, not-for-profit institutions.

Number of Respondents: 20 respondents; 1,200 responses.

Estimated Time Per Response: 5 hours.

Frequency of Response: On occasion reporting requirement.

Total Annual Burden: 6,000 hours.

Total Annual Cost: N/A.

Needs and Uses: This information will be used by FCC staff to monitor the operating agreements of U.S. carriers and their foreign correspondents that possess market power, and, in particular, to monitor the international accounting rates of such carriers to ensure consistency with Commission policies and the by-pass and safeguard its international settlements policy.

Federal Communications Commission.
Marlene H. Dortch,
Secretary.

[FR Doc. 03-1203 Filed 1-17-03; 8:45 am]

BILLING CODE 6712-01-P